DEPARTMENT OF ENERGY

Federal Energy Regulatory Commission

[Docket No. EL05-127-000]

PJM Interconnection, L.L.C.; Notice of Institution of Proceeding and Refund Effective Date

July 7, 2005.

On July 6, 2005, the Commission issued an order that instituted a proceeding in Docket No. EL05-127-000, pursuant to section 206 of the Federal Power Act (FPA), 16 U.S.C. 824e, concerning the continued justness and reasonableness of PJM Interconnection, L.L.C.'s previously-accepted rate filing with respect to the behind-the-meter generation netting program. PJM Interconnection, L.L.C., 112 FERC ¶ 61,034 (2005).

The refund effective date in Docket No. EL05-127-000, established pursuant to section 206(b) of the FPA, will be 60 days from the date of publication of this notice in the Federal Register.

Magalie R. Salas,
Secretary.

[FR Doc. 05-15385 Filed 8-2-05; 8:45 am]

BILLING CODE 6717-01-P